DEPARTMENT OF HEALTH AND HUMAN SERVICES

Administration for Children and Families

Proposed Information Collection Activity; Office of Community Services Medical-Legal Partnerships Plus Data Collection (New Collection)

AGENCY: Office of Community Services, Administration for Children and Families, U.S. Department of Health and Human Services.

ACTION: Request for public comments.

SUMMARY: The Office of Community Services (OCS), Administration for Children and Families (ACF), U.S. Department of Health and Human Services (HHS), is proposing a new information collection for an evaluation of a new demonstration program, the Medical-Legal Partnerships Plus (MLP+). The information collection will include grant recipient reports of service delivery and outcomes, as well as interviews with program staff and participants to understand program implementation and participant experiences.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: In fiscal year 2023, OCS began administering the MLP+ program, which was appropriated in HR 117-403, Departments of Labor, Health and Human Services, and Related Agencies Appropriations Bill, 2023 through the Social Services Research Demonstration program. OCS awarded $1.6 million to eight MLPs to expand and strengthen the delivery of legal and social services that address health-harming needs for families and individuals with low incomes. The proposed information collection will support program performance monitoring, the provision of technical assistance to grant recipients, and an implementation evaluation. This information collection includes the following activities:

• Collecting program data describing implementation, outcomes, and participant characteristics through a narrative quarterly Performance Progress Report (PPR) and a semi-annual report.

• Conducting interviews with program directors to better understand their program implementation efforts and responses to client needs.

• Conducting interviews with members of the legal team to better understand their program implementation efforts and responses to client needs.

• Conducting interviews with members of the social services team to better understand their program implementation efforts and responses to client needs.

• Conducting interviews with members of the clinical team to better understand their program implementation efforts and responses to client needs.

• Conducting individual patient interviews with beneficiary clients to understand their needs and experiences with the medical, legal, and social services offered through the medical-legal partnership.

Respondents: There will be three types of respondents to the proposed instruments. First, the direct beneficiaries, the clients working with the MLP teams, will participate in the patient interviews and provide information about their characteristics, needs, and outcomes for the grant recipients' semi-annual reporting. Second, the program directors, legal staff, clinical staff, and social services staff will respond to interview instruments tailored to their roles. Grant recipients and project partners will also be asked to supply information that grant recipients will compile for quarterly PPRs and semi-annual reports, which will include information aggregated across partner sites and individuals participating in the program.

Annual Burden Estimates
Information collection title | Total number of respondents | Total number of responses per respondent | Average burden hours per response | Total burden hours | Annual burden hours
Quarterly PPR Collections | 8 | 8 | 2 | 128 | 64
Semi-Annual Report—Grant Recipients | 8 | 4 | 40 | 1,280 | 640
Semi-Annual Report—Partner Organizations | 15 | 4 | 2 | 120 | 60
Semi-Annual Report—Beneficiaries | 13,800 | 1 | .25 | 3,450 | 1,725
Interviews with Staff | 64 | 1 | 1.5 | 96 | 48
Beneficiary Interviews | 32 | 1 | 1.5 | 48 | 24
Estimated Annual Burden Total: |  |  |  | 5,122 | 2,561

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 1110, Social Security Act, 42 U.S.C. 1310.

Mary C. Jones,
ACF/OPRE Certifying Officer.

[FR Doc. 2024-10761 Filed 5-15-24; 8:45 am]

BILLING CODE 4184-24-P